Title 3—

The President

Memorandum of November 9, 2020

Delegation of Authority for Fiscal Year 2021 Cost Estimates and Annual Reports to the Congress for the Land and Water Conservation Fund

Memorandum for the Secretary of the Interior [and] the Secretary of Agriculture

By the authority vested in me as President by the Constitution and the laws of the United States of America, including section 301 of title 3, United States Code, it is hereby ordered as follows:

Section 1. The Secretary of the Interior and the Secretary of Agriculture are hereby authorized to submit, for their respective agencies:

(a) the cost estimates to the Congress required by 54 U.S.C. 200303(c)(1)(A), as amended by section 3(a) of the Great American Outdoors Act (Public Law 116-152) (the “Act”); and

(b) annually, the report to the Congress required by 54 U.S.C. 200303(c)(4), as amended by section 3(a) of the Act.

Sec. 2. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of the Interior is authorized and directed to publish this memorandum in the Federal Register.

THE WHITE HOUSE,

Washington, November 9, 2020

[FR Doc. 2020-25295

Filed 11-12-20; 11:15 am]

Billing code 4310-10-P